POSTAL REGULATORY COMMISSION

Sunshine Act Meetings

DATE AND TIME: Friday, September 10, 2010, at 2:30 p.m.

PLACE: Commission conference room, 901 New York Avenue, NW., Suite 200, Washington, DC 20268-0001.

STATUS: Open.

MATTERS TO BE CONSIDERED: Consideration and adoption of FY 2012 budget.

CONTACT PERSON FOR MORE INFORMATION: Stephen L. Sharfman, General Counsel, Postal Regulatory Commission, 901 New York Avenue, NW., Suite 200, Washington, DC 20268-0001, stephen.sharfman@prc.gov or 202-789-6820.

Dated: August 18, 2010.
Shoshana M. Grove,
Secretary.

[FR Doc. 2010-20836 Filed 8-18-10; 4:15 pm]

BILLING CODE 7710-FW-S